DEPARTMENT OF HOMELAND SECURITY

National Communications System

National Security Telecommunications Advisory Committee

AGENCY: National Communications System (NCS).

ACTION: Notice of closed meeting.

SUMMARY: The President's National Security Telecommunications Advisory Committee (NSTAC) will meet via conference call on Thursday, March 10, 2005, from 2 p.m. until 3 p.m. The conference call will be closed to the public. The NSTAC advises the President of the United States on issues and problems related to implementing national security and emergency preparedness (NS/EP) communications policy.

Summary of Agenda

At this meeting, the NSTAC will receive briefings and consider proposed recommendations from (1) the NSTAC's Next Generation Network Task Force (NGNTF) concerning near-term issues emerging from the convergence of telecommunications and information technology, and (2) the NSTAC's Legislative and Regulatory Task Force (LRTF) concerning issues associated with the availability of critical telecommunications infrastructure information over the Internet. These discussions are expected to include discussion of sensitive, commercially confidential and proprietary vulnerability and infrastructure protection information. Last-minute changes relative to the subjects to be discussed on the agenda, and the logistical issues associated with those changes, have necessitated the publication of this Notice fewer than 15 days in advance of the scheduled meeting. Because the meeting will be closed, the adverse impact to the members of the public is reduced. Nevertheless, every effort has been made to ensure publication as close to the 15 day threshold as possible.

Basis for Closure: In accordance with section 10(d) of the Federal Advisory Committee Act, Public Law 92-463, as amended (5 U.S.C. App. 2), the Department has determined that the aforementioned briefings and the associated discussion will concern matters sensitive to homeland security within the meaning of 5 U.S.C. 552b(c)(4) and (c)(9)(B) and that, accordingly, this meeting will be closed to the public.

FOR FURTHER INFORMATION CONTACT: Call Ms. Kiesha Gebreyes, Chief, Industry Operations Branch at (703) 607-6134, or write the Manager, National Communications System, P.O. Box 4502, Arlington, Virginia 22204-4502.

Peter M. Fonash,
Acting Deputy Manager, National Communications System.

[FR Doc. 05-3771 Filed 2-25-05; 8:45 am]

BILLING CODE 4410-10-P